DEPARTMENT OF THE TREASURY

Internal Revenue Service

Advisory Group to the Internal Revenue Service, Tax Exempt and Government Entities Division (TE/GE); Meeting

AGENCY: Internal Revenue Service (IRS), Treasury.

ACTION: Notice.

SUMMARY: The Advisory Committee on Tax Exempt and Government Entities (ACT) will hold a public meeting on Wednesday, May 21, 2003.

FOR FURTHER INFORMATION CONTACT: Steven J. Pyrek, Director, Communications and Liaison; 1111 Constitution Ave., NW., T:CL; Washington, DC 20224. Telephone: 202-283-9966 (not a toll-free number). E-mail address: Steve.J.Pyrek@irs.gov.

SUPPLEMENTARY INFORMATION: By notice herein given, pursuant to section 10(a)(2) of the Federal Advisory Committee Act, 5 U.S.C. App. (1988), a public meeting of the ACT will be held on Wednesday, May 21, 2003, from 9 a.m. to 4 p.m., at Treasury Executive Institute, Room A, located in the U.S. Mint Federal Building; 801 9th Street., NW., Washington, DC. Issues to be discussed relate to Employee Plans, Exempt Organizations, and Government Entities.

Reports from four ACT subgroups cover the following topics:

• Exempt Organizations Determinations Process Review.

• TE/GE Audit Issues.

• Abusive Tax Shelters Involving Tax Exempt and Government Entities.

• Gateway Opportunities: Federal, State, and Local Governments (FSLG) and its Customers.

Last minute agenda changes may preclude advance notice. Due to limited seating and security requirements, attendees must call Demetrice Tuppince to confirm their attendance.

Ms. Tuppince can be reached at (202) 283-9954. Attendees are encouraged to arrive at least 30 minutes before the meeting begins to allow sufficient time for security clearance. Picture identification must be presented. Please use the main entrance at 801 9th Street, NW to enter the building.

Should you wish the ACT to consider a written statement, please call (202) 283-9966, or write to: Internal Revenue Service; 1111 Constitution Ave., NW; T:CL-Penn Bldg; Washington, DC 20224, or e-mail Steve.J.Pyrek@irs.gov.

Dated: April 22, 2003.
Steven J. Pyrek,
Designated Federal Official, Tax Exempt and Government Entities Division.

[FR Doc. 03-10929 Filed 5-1-03; 8:45 am]

BILLING CODE 4830-01-M